DEPARTMENT OF ENERGY

Federal Energy Regulatory Commission

[Project No. 6951-018]

Tallassee Shoals, LLC; Notice Soliciting Scoping Comments

Take notice that the following hydroelectric application has been filed with the Commission and is available for public inspection.

a. Type of Application: New License.

b. Project No.: 6951-018.

c. Date Filed: September 15, 2021.

d. Applicant: Tallassee Shoals, LLC.

e. Name of Project: Tallassee Shoals Hydroelectric Project.

f. Location: The project is located on the Middle Oconee River, in Athens-Clarke and Jackson Counties, Georgia. The project does not occupy any federal land.

g. Filed Pursuant to: Federal Power Act 16 U.S.C. 791 (a)—825 (r).

h. Applicant Contact: Walter Puryear, Tallassee Shoals, LLC., 2399 Tallassee Road, Athens, Georgia 30607; Phone at (706) 540-7621, or email at wpuryear@bellsouth.net.

i. FERC Contact: Michael Spencer at (202) 502-6093, or michael.spencer@ferc.gov.

j. Deadline for filing scoping comments: June 30, 2022.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy via U.S. Postal Service to: Secretary, Federal Energy Regulatory Commission, 888 First Street NE, Washington, DC 20426. Submissions sent via any other carrier must be addressed to: Kimberly D. Bose, Secretary, Federal Energy Regulatory Commission, 12225 Wilkins Avenue, Rockville, Maryland 20852. All filings must clearly identify the project name and docket number on the first page: Tallassee Shoals Hydroelectric Project, P-6951-018.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Tallassee Shoals Project consists of the following existing facilities: (1) a 365-foot-long, 25-foot-high concrete dam; (2) a 100-kilowatt fixed Kaplan unit within the dam; (3) a 1,400-foot-long headrace canal from the dam to the powerhouse; (4) an 80-foot-long, 11-foot-diameter penstock; (5) a powerhouse containing a single 2.2 megawatt (MW) adjustable Kaplan unit; (6) a 75-foot-long tailrace; and (7) a 100-foot-long, 42-kilovolt transmission line. The project creates a 2,100-foot-long bypassed reach of the Middle Oconee River. The project's total capacity is 2.3 MW, and its average annual generation is approximately 6,100 megawatt-hours.

Tallassee Shoals, LLC. proposes to continue run-of-river operation of the project with the required minimum flow of 70 cfs or inflow, whichever is less, into the project's bypassed reach, yearound. Tallassee Shoals, LLC. proposes to discontinue the minimum flow of 138 cfs, or inflow, whichever is less, provided currently in the month of May.

m. In addition to publishing the full text of this notice in the Federal Register, the Commission provides all interested persons an opportunity to view and/or print the contents of this notice, as well as other documents in the proceeding (e.g., scoping document) via the internet through the Commission's Home Page (http://www.ferc.gov) using the “eLibrary” link. Enter the docket number, excluding the last three digits, in the docket number field to access the document (P-6951). For assistance, contact FERC at FERCOnlineSupport@ferc.gov or call toll-free, (866) 208-3676 or TYY, (202) 502-8659.

n. You may also register online at http://www.ferc.gov/docs-filing/esubscription.asp to be notified via email of new filings and issuances related to this or other pending projects. For assistance, contact FERC Online Support.

o. Scoping Process.

Commission staff will prepare either an Environmental Assessment (EA) or an Environmental Impact Statement (EIS) that describes and evaluates the probable effects, if any, of the licensee's proposed action and alternatives. The EA or EIS will consider environmental impacts and reasonable alternatives to the proposed action. The Commission's scoping process will help determine the required level of analysis and satisfy the National Environmental Policy Act (NEPA) scoping requirements, irrespective of whether the Commission prepares an EA or an EIS. At this time, we do not anticipate holding on-site scoping meetings. Instead, we are soliciting written comments and suggestions on the preliminary list of issues and alternatives to be addressed in the NEPA document, as described in scoping document 1 (SD1), issued May 31, 2022.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: May 31, 2022.
Kimberly D. Bose,
Secretary.

[FR Doc. 2022-12051 Filed 6-3-22; 8:45 am]

BILLING CODE 6717-01-P